DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of the Office of Management and Budget's (OMB) approval of information collection requirements.

SUMMARY: The Occupational Safety and Health Administration (OSHA) announces that OMB extended approval for information collection requirements found in OSHA's standards and a new collection of information pertaining to OSHA's Alliance Program outlined in this notice. OSHA sought approval of these requirements under the Paperwork Reduction Act of 1995 (PRA), and, as required by that Act, is announcing the approval numbers and expiration dates for these requirements and regulations.

DATES: Applicable June 11, 2020.

FOR FURTHER INFORMATION CONTACT: Seleda Perryman or Theda Kenney, Directorate of Standards and Guidance, OSHA, U.S. Department of Labor, telephone (202) 693-2222.

SUPPLEMENTARY INFORMATION: In a series of Federal Register notices, the agency provided 60-day comment periods for the public to respond to OSHA's burden hour and cost estimates. The various information collection (paperwork) requirements in the safety and health standards pertain to general industry, construction, and maritime (i.e., 29 CFR parts 1910, 1915, and 1926), and a collection of information pertaining to OSHA's Alliance Program.

In accordance with the PRA (44 U.S.C. 3501-3520), OMB approved these information collection requirements. The table provides the following information for each of these requirements approved by OMB: The title of the Federal Register notice; the Federal Register citation (date, volume, and leading page); OSHA docket number; OMB's Control Number; and the new expiration date.

In accordance with 5 CFR 1320.5(b), an agency cannot conduct, sponsor, or require a response to a collection of information unless the collection displays a valid OMB control number and the agency informs respondents that they need not respond to the collection of information.

Title of the information collection request | Date of Federal Register publication, Federal Register citation, and OSHA docket No. | OMB control No. | Expiration date
Beryllium Standard for General Industry (29 CFR 1910.1024), Construction (29 CFR 1926.1124), and Maritime (29 CFR 1915.1024) | February 3, 2020, 83 FR 5996, Docket No. OSHA-2019-0010 | 1218-0267 | 05/31/2023
Cranes and Derricks in Construction (29 CFR 1926, Subpart CC): Operator Qualification | July 30, 2018, 83 FR 36507, Docket No. OSHA-2018-0009 | 1218-0270 | 02/28/2022
Occupational Noise Exposure (29 CFR 1910.95) | November 21, 2019, 84 FR 64349, Docket No. OSHA-2010-0017 | 1218-0048 | 04/30/2023
Occupational Safety and Health Administration Alliance Program | June 21, 2018, 83 FR 28868, Docket No. OSHA-2018-0006 | 1218-0274 | 02/28/2023
Process Safety Management of Highly Hazardous Chemicals (PSM) (29 CFR 1910.119, 1926.64) | June 28, 2019, 84 FR 31119, Docket No. OSHA-2012-0039 | 1218-0200 | 04/30/2023

Authority and Signature

Loren Sweatt, Principal Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on June 5, 2020.
Loren Sweatt,
Principal Deputy Assistant Secretary of Labor for Occupational Safety and Health.

[FR Doc. 2020-12631 Filed 6-10-20; 8:45 am]

BILLING CODE 4510-26-P